DEPARTMENT OF JUSTICE

Notice of Extension to Public Comment Period for Supplemental Consent Decree Lodged Under the Comprehensive Environmental Response, Compensation, and Liability Act

On October 10, 2012, the Department of Justice lodged a proposed Supplemental Consent Decree with the United States District Court for the District of Massachusetts in the lawsuit entitled, United States and Massachusetts v. AVX Corporation, Civil Action No. 83-3882-Y, resolving AVX Corporation's liability under the unknown conditions/new information and cost-related reopeners in the 1992 Consent Decree between United States and the Commonwealth of Massachusetts and AVX in connection with the New Bedford Harbor Superfund Site. 77 FR 63871. Under the terms of the Supplemental Consent Decree, AVX will pay an additional $366.25 million with interest (in addition to the $59 million, plus interest, that AVX paid for response costs in the 1992 Consent Decree) in three payments spanning two years and will provide financial assurance to secure the required payments. The governments will release their claims for all response costs and injunctive relief without new “reopeners” under Sections 106 and 107 of CERCLA, among other alleged claims. The governments retain their rights to additional relief for natural resource damages pursuant to a reservation of rights in the 1992 Consent Decree.

The prior notice indicated that the Department of Justice would receive comments concerning the settlement for a period of thirty (30) days from the date of publication of the notice on October 17, 2012. Having received a request for an extension of the initial comment period and given the public interest in this settlement, the United States is extending the comment period for an additional thirty (30) days. The United States Environmental Protection Agency has also adjourned the effective date of the Unilateral Administrative Order, issued by EPA Region 1 to AVX on April 18, 2012, from November 1, 2012 to January 2, 2013, and EPA has posted additional information related to the settlement and the Site at the following Web site: http://www.epa.gov/nbh/index.html.

The Department of Justice will receive, for a period of thirty (30) days from November 16, 2012, any comments relating to the proposed Supplemental Consent Decree. Comments should be addressed to the Assistant Attorney General, Environment and Natural Resources Division, and should refer to United States and Massachusetts v. AVX Corporation, D.J. Ref. No. 90-11-2-32/2. All comments must be submitted not later than December 17, 2012. Comments may be submitted either by email or by mail:

To submit comments: | Send them to:
By email | pubcomment-ees.enrd@usdoj.gov.
By mail | Assistant Attorney General, U.S. DOJ-ENRD, P.O. Box 7611, Washington, DC 20044-7611.

During the comment period, a person may request an opportunity for a public meeting in the affected area in accordance with Section 7003 of RCRA, 42 U.S.C. 6973, regarding the Decree's covenant not to sue under Section 7003. This extended comment period may not be extended if a request for a meeting is not timely received to allow for the submission of comments within the comment period. During the public comment period, the Supplemental Consent Decree may be examined and downloaded at this Justice Department Web site: http://www.usdoj.gov/enrd/Consent_Decrees.html. We will provide a paper copy of the Supplemental Consent Decree upon written request and payment of reproduction costs. Please mail your request and payment to: Consent Decree Library, U.S. DOJ-ENRD, P.O. Box 7611, Washington, DC 20044-7611.

Please enclose a check or money order for $19.50 (25 cents per page reproduction cost) payable to the United States Treasury. For a paper copy without the exhibits, the cost is $6.50.

Ronald G. Gluck,
Assistant Section Chief, Environmental Enforcement Section, Environment and Natural Resources Division.

[FR Doc. 2012-27287 Filed 11-7-12; 8:45 am]

BILLING CODE 4410-15-P